DEPARTMENT OF TRANSPORTATION

Federal Aviation Administration

14 CFR Part 71

[Docket No. FAA-2017-0390; Airspace Docket No. 17-ANM-11]

Amendment of Class D and Class E Airspace; Redmond, OR

AGENCY: Federal Aviation Administration (FAA), DOT.

ACTION: Final rule.

SUMMARY: This action modifies Class E airspace designated as an extension to a Class D or Class E surface area at Roberts Field, Redmond, OR, by removing the Notice to Airmen (NOTAM) part-time status, and modifying Class E airspace extending upward from 700 feet above the surface at the airport. Also, the geographic coordinates for Roberts Field in the associated Class D and E airspace areas are amended to match the FAA's aeronautical database. These changes are necessary to accommodate airspace redesign for the safety and management of Instrument Flight Rules (IFR) operations within the National Airspace System. Also, an editorial change is made to the Class D and Class E airspace legal descriptions replacing Airport/Facility Directory with the term Chart Supplement.

DATES: Effective 0901 UTC, December 7, 2017. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of this material at NARA, call (202) 741-6030, or go to https://www.archives.gov/federal-register/cfr/ibr-locations.html.

FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and Class E airspace at Roberts Field, Redmond, OR to accommodate airspace redesign for the safety and management of Instrument Flight Rules (IFR) operations within the National Airspace System.

History

On June 23, 2017, the FAA published in the Federal Register (82 FR 28603) Docket FAA-2017-0390, a notice of proposed rulemaking (NPRM) that proposed to modify Class E airspace designated as an extension to a Class D or Class E surface area at Roberts Field, Redmond, OR, by removing the Notice to Airmen (NOTAM) part-time status, and proposed to modify Class E airspace extending upward from 700 feet above the surface at the airport. Also, the geographic coordinates for Roberts Field in the associated Class D and E airspace areas would be amended to match the FAA's aeronautical database. Interested parties were invited to participate in this rulemaking effort by submitting written comments on the proposal to the FAA. No comments were received.

Class D and E airspace designations are published in paragraph 5000, 6002, 6004, and 6005, respectively, of FAA Order 7400.11B, dated August 3, 2017, and effective September 15, 2017, which is incorporated by reference in 14 CFR 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14 Code of Federal Regulations (14 CFR) part 71 by modifying Class E airspace designated as an extension to a Class D or Class E surface area at Roberts Field, Redmond, OR, by shortening the segment to within 8.5 miles (from 13.5 miles) of the airport. This action also removes the part-time NOTAM language that reads “This Class E airspace is effective during the specific dates and times established in advance by a Notice to Airmen. The effective date and time will thereafter be continuously published in the Airport/Facility Directory.”

Additionally, this action modifies Class E airspace extending upward from 700 feet above the surface to reduce the area east (to within 9.6 miles, from 11.5 miles) and southeast (to within 13.1 miles, from 15 miles) of the airport, and expand the area southwest (to within 10.5 miles, from 7.6 miles) of the airport.

Also, this action updates the geographic coordinates for Roberts Field and replaces the outdated term Airport/Facility Directory with the term Chart Supplement in the Class D and Class E airspace legal descriptions. Further, this action makes an editorial edit to the Class D legal description by reinstating the letters “MSL” to signify 5,600 feet mean sea level. This airspace redesign is necessary for the safety and management of IFR operations at the airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ANM OR D Redmond, OR [Amended]

Roberts Field, OR

(Lat. 44°15′15″ N., long. 121°09′00″ W.)

That airspace extending upward from the surface to and including 5,600 feet MSL within a 5.1-mile radius of Roberts Field. This Class D airspace area is effective during the specific dates and times established in advance by a Notice to Airmen. The effective date and time will thereafter be continuously published in the Chart Supplement.

Paragraph 6002 Class E Airspace Designated as Surface Areas.

* * * * *

ANM OR E2 Redmond, OR [Amended]

Roberts Field, OR

(Lat. 44°15′15″ N., long. 121°09′00″ W.)

That airspace extending upward from the surface within a 5.1-mile radius of Roberts Field. This Class E airspace is effective during the specific dates and times established in advance by a Notice to Airmen. The effective date and time will thereafter be continuously published in the Chart Supplement.

Paragraph 6004 Class E Airspace Designated as an Extension to a Class D or Class E Surface Area.

* * * * *

ANM OR E4 Redmond, OR [Amended]

Roberts Field, OR

(Lat. 44°15′15″ N., long. 121°09′00″ W.)

That airspace extending upward from the surface within 1 mile each side of the 122° bearing of Roberts Field extending from the 5.1-mile radius to 8.5 miles southeast of the airport.

Paragraph 6005 Class E Airspace Areas Extending Upward From 700 Feet or More Above the Surface of the Earth.

* * * * *

ANM OR E5 Redmond, OR [Amended]

Roberts Field, OR

(Lat. 44°15′15″ N., long. 121°09′00″ W.)

That airspace extending upward from 700 feet above the surface within a 7.6-mile radius of Roberts Field from the 270° bearing from the airport clockwise to the 195° bearing from the airport, and within a 10.5-mile radius of Roberts Field from the 195° bearing from the airport clockwise to the 270° bearing from the airport, and within 2.6 miles each side of the 085° bearing from Roberts Field extending to 9.6 miles east of the airport, and within 4 miles northeast and 3 miles southwest of the 122° bearing from Roberts Field extending to 13.1 miles southeast of the airport.

Issued in Seattle, Washington, on September 27, 2017.
B.G. Chew,
Acting Group Manager, Operations Support Group, Western Service Center.

[FR Doc. 2017-21506 Filed 10-6-17; 8:45 am]

BILLING CODE 4910-13-P